DEPARTMENT OF COMMERCE

National Oceanic and Atmospheric Administration

RIN 0648-XV068

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day meeting of its Reef Fish Advisory Panel (AP).

DATES: The meeting will convene on Wednesday, October 2, 2019, 8:30 a.m. to 5:30 p.m., EDT. For agenda details, see SUPPLEMENTARY INFORMATION.

ADDRESSES: The meeting will be held at the Gulf Council office.

Council address: Gulf of Mexico Fishery Management Council, 4107 W Spruce Street, Suite 200, Tampa, FL 33607; telephone: (813) 348-1630.

FOR FURTHER INFORMATION CONTACT: Ryan Rindone, Fishery Biologist, Gulf of Mexico Fishery Management Council; ryan.rindone@gulfcouncil.org; telephone: (813) 348-1630. The Council's website, www.gulfcouncil.org also has details on the meeting location, proposed agenda, webinar listen-in access, and other materials.

SUPPLEMENTARY INFORMATION: The following items are on the agenda, though agenda items may be addressed out of order (changes will be noted on the Council's website when possible.)

Wednesday, October 2, 2019; 8:30 a.m.-5:30 p.m.

Introduction of members, adoption of agenda, and approval of minutes from the May 9, 2019 meeting (webinar). Staff will review the Scope of Work; and, hold an election for the Chair and Vice Chair seats. The AP will receive presentations on SEDAR 61: Gulf of Mexico Red Grouper Stock Assessment and an update on SEDAR 49: Gulf of Mexico Lane Snapper Itarget Assessment, along with the SSC Recommendations for Overfishing Limits (OFL) and Acceptable Biological Catch (ABC) for both; and, review the SEDAR 61 Executive Summary. The AP will receive updates on Florida Keys National Marine Sanctuary Expansion: Sanctuary Plan and Comments; Flower Garden Banks National Marine Sanctuary Expansion; and, the progress for Coral Amendment 9.

The AP will review draft Framework Action to Modify Greater Amberjack Recreational Management Measures; receive a summary of Reef Fish AP Decisions on Greater Amberjack Bag Limits; and discuss a New Action considering Recreational Zone Management. The AP will receive a status update for Draft Amendment 52: Reallocation of Red Snapper; review Draft Amendment 36B: Modifications to Commercial IFQ Programs and Presentation and Draft Framework Action to Modify Multi-day Possession Limits for For-hire Vessels; and, hold a discussion for removing the rule allowing trolling in the Steamboat Lumps MPA and perhaps Madison Swanson.

The Chair will discuss any other business items.

—Meeting Adjourns

The meeting will be broadcast via webinar. You may register for the listen-in access by visiting www.gulfcouncil.org and clicking on the AP meeting on the calendar.

The Agenda is subject to change, and the latest version along with other meeting materials will be posted on www.gulfcouncil.org as they become available.

Although other non-emergency issues not on the agenda may come before the group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Authority: 16 U.S.C. 1801 et seq.

Dated: September 11, 2019.
Tracey L. Thompson,
Acting Deputy Director, Office of Sustainable Fisheries, National Marine Fisheries Service.

[FR Doc. 2019-19959 Filed 9-13-19; 8:45 am]

BILLING CODE 3510-22-P